ENVIRONMENTAL PROTECTION AGENCY

[EPA-HQ-OECA-2005-0078; FRL-8194-3]

Agency Information Collection Activities; Submission to OMB for Review and Approval; Comment Request; NSPS for Small Municipal Waste Combustors (Renewal), EPA ICR Number 1900.03, OMB Control Number 2060-0423

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 10, 2006.

ADDRESSES: Submit your comments, referencing docket ID number EPA7-HQ-OECA-2005-0078 to (1) EPA online using www.regulations.gov (our preferred method), or by email to docket.oeca@epa.gov, or by mail to: EPA Docket Center (EPA/DC), Environmental Protection Agency, Enforcement and Compliance Docket and Information Center, mail code 2201T , 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Gregory Fried, Compliance Assessment and Media Programs Division, Office of Compliance, (Mail Code 2223A), Environmental Protection Agency, 1200 Pennsylvania Avenue, NW., Washington, DC 20460; telephone number: (202) 564-7016; fax number: (202) 564-0050; e-mail address: fried.gregory@epa.gov.

SUPPLEMENTARY INFORMATION: EPA has submitted the following ICR to OMB for review and approval according to the procedures prescribed in 5 CFR 1320.12. On September 21, 2005 (70 FR 55368), EPA sought comments on this ICR pursuant to 5 CFR 1320.8(d). EPA received no comments. Any additional comments on this ICR should be submitted to EPA and OMB within 30 days of this notice.

EPA has established a public docket for this ICR under Docket ID number EPA-HQ-OECA-2005-0078, which is available for public viewing online at http://www.regulations.gov, in person viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to www.regulations.gov.

Title: NSPS for Small Municipal Waste Combustors (Renewal).

ICR Numbers: EPA ICR Number 1900.03, OMB Control Number 2060-0423.

ICR Status: This ICR is scheduled to expire on June 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: These regulations apply to small municipal waste combustors (MWCs) commencing construction after August 30, 1999, and small MWC units that commenced reconstruction or modification after June 6, 2001, that combust greater than 35 tons per day (tpd) but less than 250 tpd of municipal solid waste. This information collection is required as a result of the implementation of the NSPS that are being developed under the authority of sections 111 and 129 of the Clean Air Act (CAA). The regulations require initial notifications, performance tests, and periodic reports. Owners or operators are also required to maintain records of the occurrence and duration of any startup, shutdown, or malfunction in the operation of an affected facility, or any period during which the monitoring system is inoperative. Owners and operators of small MWCs are required to measure, record, and report emission rates and operating parameters, follow good combustion practices (GCP), and submit a siting analysis. Owners or operators subject to these regulations are required to maintain records of measurements and reports for at least five years.

Burden Statement: The annual public reporting and recordkeeping burden for this collection of information is estimated to average 1,451 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Small Municipal Waste Combustors.Estimated Number of Respondents: 3.

Frequency of Response: Initially, semiannually, annually, and on occasion.

Estimated Total Annual Hour Burden: 14,509.

Estimated Total Annual Cost: $168,000, includes $66,000 annualized capital costs and $102,000 in O&M costs.

Changes in the Estimates: There is a decrease of 10,692 hours in the total estimated burden currently identified in the OMB Inventory of Approved ICR Burdens. The decrease in burden hours from the most recently approved ICR is due to an adjustment. The decrease in burden cost is due to a decrease in the estimated number of additional sources that will become subject to the standard over the next three years, from one additional source per year to one additional source over the next three years. The change in the capital costs and operation and maintenance costs also decreased due to a decrease in the number of affected sources and a decrease in the estimated number of additional sources that will startup over the next three years.

Dated: June 27, 2006.
Oscar Morales,
Director, Collection Strategies Division.

[FR Doc. E6-10835 Filed 7-10-06; 8:45 am]

BILLING CODE 6560-50-P